DEPARTMENT OF HEALTH AND HUMAN SERVICES

Centers for Disease Control and Prevention

[CDC-2018-0005, Docket Number NIOSH-303]

Law Enforcement Officer Motor Vehicle Crash and Struck-By Fatality Investigations; Notice of Public Meeting; Request for Comments

AGENCY: National Institute for Occupational Safety and Health (NIOSH) of the Centers for Disease Control and Prevention (CDC), Department of Health and Human Services (HHS).

ACTION: Notice of public meeting and solicitation for public comment.

SUMMARY: The National Institute for Occupational Safety and Health (NIOSH) of the Centers for Disease Control and Prevention (CDC) is seeking stakeholder input on NIOSH's Law Enforcement Officer Motor Vehicle Crash and Struck-by Fatality Investigations—a pilot program.

Table of Contents

• Dates:

• Addresses:

• For Further Information Contact:

• Supplementary Information:

• Background

• References

DATES: A public meeting will be held on Tuesday, February 27, 2018, from 9:00 a.m. to 3:00 p.m. Eastern Time, or until the last public presenter has spoken, whichever occurs first. Please note that public comments may end before the time. Members of the public who wish to provide oral comments should plan to attend the meeting at the start time listed. As an alternative, electronic or written comments must be received by April 17, 2018.

ADDRESSES: The public meeting will be held at the Office of Justice Programs (OJP), 810 7th Street NW, Washington, DC 20531. Attendees will be escorted to the room from the security checkpoint.

Written Comments: You may submit written comments by either of the two methods below.

• Federal eRulemaking Portal: www.regulations.gov. Follow the instructions for submitting comments.

• Mail: National Institute for Occupational Safety and Health, NIOSH Docket Office, 1090 Tusculum Avenue, MS C-34, Cincinnati, Ohio 45226-1998.

All comments received in response to this notice must be identified by CDC-2017-0118 and Docket Number NIOSH-303. All relevant comments received, including any personal information, will be posted without change to www.regulations.gov. To access the docket, read background documents or read comments, go to www.regulations.gov and enter CDC-2017-0118 in the search field and click “Search.” All information received in response to this notice will be available for public examination and copying at the NIOSH Docket Office, 1150 Tusculum Avenue, Room 155, Cincinnati, Ohio 45226-1998.

FOR FURTHER INFORMATION CONTACT: Paul Moore, NIOSH, Division of Safety Research, 1095 Willowdale Road, Morgantown, West Virginia 26505, telephone (304) 285-6016, facsimile (304) 285-5774 (not toll free numbers), email PMoore@cdc.gov.

SUPPLEMENTARY INFORMATION:

Registration: Notification of intent to attend the meeting, either for participation or to make presentations, must be made by email to Paul Moore, email PMoore@cdc.gov, telephone (304) 285-6016, facsimile (304) 285-5774 or John Myers, email JMyers@cdc.gov, telephone (304) 285-6005, facsimile (304) 285-5774 no later than February 12, 2018, for U.S. citizens, and no later than February 5, 2018, for non-U.S. citizens, to allow sufficient time for mandatory facility security clearance procedures to be completed. Priority for attendance will be given to those providing oral comments. All requests to present should include the name, address, telephone number, relevant business affiliation of the presenter, and a brief summary of the presentation. After reviewing the requests for presentation, NIOSH will notify each presenter of the approximate time that their presentation is scheduled to begin. If a participant is not available when their presentation is scheduled to begin, the remaining participants will be heard in order. Presenters who missed their assigned time slot will be permitted to present later in the meeting if time permits.

Status: The meeting is open to the public, limited only by the space available. The meeting space accommodates approximately 150 people. There is no registration fee to attend this public meeting. However, those wishing to attend must sign up by the dates noted in the SUPPLEMENTARY INFORMATION section with the contact persons in this notice.

Security Considerations: Due to mandatory security clearance procedures at the location of the meeting, in-person attendees who are U.S. citizens must sign up with either of the contact persons identified in this notice by February 12, 2018, and present a valid government-issued picture identification to security personnel upon entering the building and go through an airport-type security check. No weapons will be allowed inside of the building.

To attend in person, a non-U.S. citizen must sign up with either of the contact persons identified in this notice by February 5, 2018. They will also need to provide passport information and photo identification to security personnel upon entering the building and go through an airport-type security check. No weapons will be allowed inside of the building.

To allow sufficient time for mandatory facility security clearance procedures to be completed, non-U.S. Citizens must provide the following information by email to Paul Moore, email PMoore@cdc.gov, telephone (304) 285-6016 or John Myers, email JMyers@cdc.gov, telephone (304) 285-6005, by February 5, 2018: Name; gender; date of birth; place of birth (city, province, state, country); citizenship; passport number; date of passport issue; date of passport expiration; type of visa; U.S. naturalization number (if a naturalized citizen); U.S. naturalization date (if a naturalized citizen); visitor's organization; organization address; organization telephone number; and visitor's position/title within the organization. Priority for attendance will be given to those providing oral comments. This information will be transmitted to the CDC Security Office and the Office of Justice Programs Security Office for approval. Non-U.S citizens will be notified once approval has been obtained. If approval is not received, non-U.S. citizens will not be able to attend the meeting.

Background

In the United States, there are approximately 765,000 state and local law enforcement officers (LEOs) working in stressful and dangerous conditions. LEOs are at increased risk for both fatal and non-fatal injuries, especially those occurring from motor-vehicle incidents. According to data from the National Law Enforcement Officer Memorial Fund (NLEOMF, 2016), 135 officers were killed in the line of duty in 2016; 47% were from intentional acts of violence (n = 64), 39% were motor-vehicle related (n = 53), and 13% were due to other causes.

Motor-vehicle related fatalities have been the leading cause of LEO line-of-duty-deaths in 15 of the last 20 years. As of November 14, 2017, the number of LEO line-of-duty-motor vehicle-related fatalities was 41. Between 2010 and 2014, 58% of fatal motor vehicle crashes were single vehicle crashes. [NLEOMF, 2016]

While the number of LEO motor vehicle-related fatalities remain high, efforts towards the collection of data on the circumstances and characteristics surrounding motor-vehicle related events for prevention purposes are limited. Detailed information on the causes and risk factors for LEO motor-vehicle related fatalities can provide stakeholders, researchers, and the law enforcement community with information to develop evidence-based prevention programs and policies to reduce crashes and injures.

Project Description

Under the Law Enforcement Officer Motor Vehicle Crash and Struck-by Fatality Investigations project, NIOSH staff have conducted field investigations of LEO line-of-duty-deaths due to motor vehicle crashes and being struck-by moving vehicles. This pilot project, implemented in partnership with the National Institute of Justice through an Interagency Agreement, sought to identify motor vehicle related fatality risks for LEOs and develop industry-wide recommendations. The project aimed to:

1. Learn about the motor vehicle-related risks LEOs are exposed to by studying the circumstances surrounding motor vehicle crash and struck-by fatalities,

2. Explore the feasibility of using NIOSH Fatality Assessment and Control Evaluation investigation techniques to identify contributing factors for these fatal incidents, and;

3. Disseminate NIOSH developed injury prevention recommendations to stakeholders, researchers, and the law enforcement community.

Methods and Approach

The project evaluated whether the NIOSH Fatality Assessment and Control Evaluation (FACE) methodology could appropriately collect information on the circumstances and contributing factors related to motor-vehicle fatalities among LEOs. The FACE method follows the public health approach that the etiology of injury is multifaceted and injury is preventable. FACE collects data about the circumstances and contributors to fatal occupational injuries through on-site field investigations. This type of detailed data is not generally available from injury surveillance databases. As NIOSH does not have regulatory responsibility or enforcement authority, agency participation in a FACE investigation is voluntary. The FACE method has been used to successfully investigate fatalities involving fire fighters through the NIOSH Fire Fighter Fatality Investigation and Prevention Program. However, the ability to conduct these types of investigations among one occupation does not guarantee success in another. This may be especially true for law enforcement agencies that conduct vehicle crash reconstructions as part of their normal responsibilities. Crash reconstructions generally focus on environmental conditions and technical information such as vehicle dynamics. However, the FACE methodology evaluates all circumstances surrounding an incident, including decedent information, training programs, operating procedures, social aspects of the job, equipment design, and the work environment to identify contributing factors that can lead to the development of prevention recommendations.

Investigation results are publicly reported through a narrative report that describes the incident, identifies contributing factors, and provides recommendations aimed at preventing similar incidents. The NIOSH reports do not determine fault or assign blame. The reports also do not identify the victim or other agency members. Reports are publicly available on the NIOSH website: NIOSH Law Enforcement Officer Motor Vehicle Safety.

Case Criteria and Selection

In this pilot project, a limited number of law enforcement motor-vehicle deaths were investigated using the FACE Model. For the purpose of this pilot study, the following definitions were used to identify law enforcement motor-vehicle fatalities:

• Law Enforcement Officer: An individual involved in crime control or reduction and who is directly employed on a full-time basis by a university or college, tribal, local, county, state, or federal law enforcement agency of the United States or its territories, with or without compensation, who is duly sworn and has full arrest powers.

• Law Enforcement Motor Vehicle: A motor vehicle, excluding motorcycles, that is owned by any university or college, tribal, local, county, State, or Federal police agency. Personal vehicles not owned by the agency but used by officers or agents (e.g., undercover) do not fall into this category.

• Motor vehicle crash: A crash that occurred while operating a law enforcement motor vehicle engaged in pursuit, patrol, emergency response, or commute between duty stations.

• Struck-by: A LEO struck-by a motor vehicle while operating on foot or in a parked vehicle at a roadside emergency, traffic stop or roadblock, or while assisting motorists.

Several sources were used to identify LEO fatalities that met the case selection criteria including internet searches, newspaper clippings, the National Law Enforcement Officers Memorial Fund (NLEOMF), and the Officer Down Memorial Page (ODMP). Assistance from NIJ was also obtained to identify potential cases.

Results to Date

From September 2013 through December 2017, through this pilot project, NIOSH identified 18 LEO line-of-duty motor-vehicle crash fatalities to pursue as potential fatality investigations. Contact information for each deceased LEO's agency was obtained from the NLEOMF. NIOSH attempted to contact the agencies through phone calls and or emails. Of the 18 agencies, 5 agreed to participate in the program. Investigations for 3 of these cases have been completed and the reports have been published on the NIOSH Law Enforcement Officer Motor Vehicle Safety website: NIOSH Law Enforcement Officer Motor Vehicle Safety. Two investigations are still ongoing, but should be completed and published on the NIOSH web page in early 2018.

Completed investigations include:

Sergeant Struck by a Motor Vehicle on Interstate Highway—New Mexico

Trooper struck by vehicle while investigating crash on interstate highway—Oklahoma

Officer Struck By a Motorhome While Establishing Temporary Traffic Control on Interstate—Tennessee

The NIOSH pilot program has identified unique opportunities and challenges for investigating LEO motor vehicle deaths. Unique opportunities include: The availability of vehicle dash camera recordings to help determine how the event occurred; police crash reconstruction reports outlining the vehicle dynamics, and the availability of in-vehicle telematics to better understand the speed at impact at the time of the event. Challenges identified included the delay in initiating investigations because of ongoing litigation surrounding the officer's death, and in certain events, the lack of witnesses involving single vehicle LEO crashes. We have also observed some reluctance on the part of law enforcement agencies to participate in a NIOSH investigation stating concerns for exposing the fallen officer's family members and department colleagues to emotional distress.

Areas for Input

Specific areas where NIOSH desires input include:

1. Is the approach NIOSH used to investigate these deaths appropriate for the law enforcement community?

2. Does the approach have the potential to prevent LEO injury and death from motor-vehicle incidents?

3. How can the approach be improved to better focus on the law enforcement community's need for prevention of motor-vehicle related fatalities?

4. How can NIOSH better gain law enforcement agency cooperation and participation for conducting these investigations?

5. What is the best way to disseminate NIOSH fatality reports to law enforcement agencies, officers, and leaders?

References

NLEOMF [2016]. 124 law enforcement fatalities nationwide in 2015. Washington, DC: National Law Enforcement Memorial Fund.

NLEOMF [2016] Deadly Calls and Fatal Encounters, Analysis of U. S. law enforcement line of duty death when officers responded to dispatched calls for service and conducted enforcement (2101-2016), Washington, DC: National Law Enforcement Officers Memorial Fund.

Frank Hearl,
Chief of Staff, National Institute for Occupational Safety and Health, Centers for Disease Control and Prevention.

[FR Doc. 2018-00649 Filed 1-16-18; 8:45 am]

BILLING CODE 4163-19-P